DEPARTMENT OF ENERGY

Federal Energy Regulatory Commission

[Docket No. EG13-1-000, et al.]

Big Blue Wind Farm, LLC, et al.; Notice of Effectiveness of Exempt Wholesale Generator Status

@
| Docket Nos.
Big Blue Wind Farm, LLC | EG13-1-000
Calpine Bosque Energy Center, LLC | EG13-2-000
Homer City Generation, L.P. | EG13-3-000
Texas Dispatchable Wind 1, LLC | EG13-4-000
Blue Creek Wind Farm LLC | EG13-5-000

Take notice that during the month of December 2012, the status of the above-captioned entities as Exempt Wholesale Generators Companies became effective by operation of the Commission's regulations. 18 CFR 366.7(a).

Dated: January 17, 2013.
Kimberly D. Bose,
Secretary.

[FR Doc. 2013-01920 Filed 1-29-13; 8:45 am]

BILLING CODE 6717-01-P